NATIONAL FOUNDATION ON THE ARTS AND THE HUMANITIES

Institute of Museum and Library Services

Submission for OMB Review, Comment Request, Proposed Collection: 2025-2027 IMLS Museum Grants for African American History and Culture Program and IMLS Native American/Native Hawaiian Museum Services Program Notices of Funding Opportunity

AGENCY: Institute of Museum and Library Services, National Foundation on the Arts and the Humanities.

ACTION: Submission for OMB Review, comment request, collection of information.

SUMMARY: The Institute of Museum and Library Services (IMLS) announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. The purpose of this Notice is to solicit comments concerning two grant programs targeting the needs of specific museums and their communities nationwide: IMLS Museum Grants for African American History and Culture Program and IMLS Native American/Native Hawaiian Museum Services Program.

A copy of the proposed information collection request can be obtained by contacting the individual listed below in the FOR FURTHER INFORMATION CONTACT section of this notice.

DATES: Written comments must be submitted to the office listed in the ADDRESSES section below on or before July 20, 2024.

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information.

Alternatively, please mail your written comments to Office of Information and Regulatory Affairs, Attn.: OMB Desk Officer for Education, Office of Management and Budget, Room 10235, Washington, DC 20503, or call (202) 395-7316.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

FOR FURTHER INFORMATION CONTACT: For IMLS Museum Grants for African American History and Culture Program, contact Jessica Ottley, Senior Program Officer, Office of Museum Services, Institute of Museum and Library Services, 955 L'Enfant Plaza North SW, Suite 4000, Washington, DC 20024-2135. Ms. Ottley can be reached by telephone at 202-653-4666, or by email at jottley@imls.gov. For IMLS Native American/Native Hawaiian Museum Services Program, contact Sarah Glass, Senior Program Officer, Office of Museum Services, Institute of Museum and Library Services, 955 L'Enfant Plaza North SW, Suite 4000, Washington, DC 20024-2135. Ms. Glass can be reached by telephone at 202-653-4668, or by email at sglass@imls.gov. Persons who are deaf or hard of hearing (TTY users) can contact IMLS at 202-207-7858 via 711 for TTY-Based Telecommunications Relay Service.

SUPPLEMENTARY INFORMATION: The goals of Museum Grants for African American History and Culture (AAHC) are to build the capacity of African American museums and to support the growth and development of museum professionals at African American museums.

The goal of Native American/Native Hawaiian Museum Services (NANH) grant program is to support the capacity of Native American Tribes and Native Hawaiian organizations to provide museum services to their communities.

This action is to renew the content, forms, and instructions for each of the two Notices of Funding Opportunity for the next three years.

The 60-Day Notice was published in the Federal Register on March 20, 2024 (89 FR 19889). We received no comments in response to this Notice.

Agency: Institute of Museum and Library Services.

Title: 2025-2027 IMLS Museum Grants for African American History and Culture Program and IMLS Native American/Native Hawaiian Museum Services Program Notices of Funding Opportunity.

OMB Control Number: 3137-0095.

Agency Number: 3137.

Affected Public: Eligible museum organizations; Historically Black Colleges and Universities; Federally recognized Native American Tribes; non-profit organizations that primarily serve and represent Native Hawaiians.

Total Number of Respondents: 140.

Frequency of Response: Once per request.

Average Hours per Response: 35.

Total Estimated Number of Burden Hours: 4,900.

Total Annual Cost Burden: $159,005.

Total Annual Federal Costs: $22,695.

Dated: June 14, 2024.
Suzanne Mbollo,
Grants Management Specialist, Institute of Museum and Library Services.

[FR Doc. 2024-13501 Filed 6-18-24; 8:45 am]

BILLING CODE 7036-01-P